DEPARTMENT OF THE INTERIOR

Bureau of Ocean Energy Management

[OMB Control Number 1010-0106]

Information Collection: Oil Spill Financial Responsibility for Offshore Facilities; Proposed Collection for OMB Review; Comment Request MMAA104000

ACTION: 60-Day notice.

SUMMARY: To comply with the Paperwork Reduction Act of 1995 (PRA), the Bureau of Ocean Energy Management (BOEM) is inviting comments on a collection of information that we will submit to the Office of Management and Budget (OMB) for review and approval. The information collection request (ICR) concerns the paperwork requirements for 30 CFR 553, Oil Spill Financial Responsibility for Offshore Facilities, as well as the associated forms. The Office of Management and Budget (OMB) has assigned control number 1010-0106 to this information collection.

DATES: Submit written comments by October 14, 2016.

ADDRESSES: Please send your comments on this ICR to the BOEM Information Collection Clearance Officer, Anna Atkinson, Bureau of Ocean Energy Management, 45600 Woodland Road, Sterling, Virginia 20166 (mail); or anna.atkinson@boem.gov; or 703-787-1209 (fax). Please reference OMB Control Number 1010-0106 in your comment and include your name and return address.

FOR FURTHER INFORMATION CONTACT: Anna Atkinson, Office of Policy, Regulations, and Analysis at 703-787-1025 to request additional information about this ICR.

SUPPLEMENTARY INFORMATION: The following information pertains to this request:

OMB Control Number: 1010-0106.

Title: 30 CFR 553, Oil Spill Financial Responsibility for Offshore Facilities.

Forms:

• BOEM-1016, Designated Applicant Information Collection;

• BOEM-1017, Appointment of Designated Applicant;

• BOEM-1018, Self-Insurance Information;

• BOEM-1019, Insurance Certificate;

• BOEM-1020, Surety Bond;

• BOEM-1021, Covered Offshore Facilities;

• BOEM-1022, Covered Offshore Facility Changes;

• BOEM-1023, Financial Guarantee; and

• BOEM-1025, Independent Designated Applicant Information Certification.

Abstract: This information collection request addresses the regulations at 30 CFR 553, Oil Spill Financial Responsibility (OSFR) for Offshore Facilities, including any supplementary notices to lessees and operators that provide clarification, description, or explanation of these regulations, and forms BOEM-1016 through 1023 and BOEM-1025.

BOEM uses the information collected under 30 CFR 553 to verify compliance with section 1016 of the Oil Pollution Act, as amended. The information is necessary to confirm that applicants can pay for cleanup and damages resulting from oil spills and other hydrocarbon discharges that originate from Covered Offshore Facilities.

The BOEM uses forms to collect some information to ensure proper and efficient administration of Oil Spill Financial Responsibility. BOEM collects information to:

1. Provide a standard method for establishing eligibility for oil spill financial responsibility (OSFR) for offshore facilities;

2. Identify and maintain a record of those offshore facilities that have a potential oil spill liability;

3. Establish and maintain a continuous record, over the liability term specified in Title I of the Oil Pollution Act of 1990, of financial evidence and instruments established to pay claims for oil spill cleanup and damages resulting from operations conducted on offshore facilities and the transportation of oil from offshore platforms and wells;

4. Establish and maintain a continuous record of Responsible Parties, as defined in Title I of the Oil Pollution Act of 1990, and their agents or Authorized Representatives for oil spill financial responsibility for offshore facilities; and

5. Establish and maintain a continuous record, over the liability term specified in Title I of the Oil Pollution Act of 1990, of persons to contact and U.S. Agents for Service of Process for claims associated with oil spills from offshore facilities.

We will protect information from respondents considered proprietary under the Freedom of Information Act (5 U.S.C. 552) and implementing regulations (43 CFR part 2) and under regulations at 30 CFR 550.197, “Data and information to be made available to the public or for limited inspection.” No items of a sensitive nature are collected. Responses are mandatory.

Frequency: On occasion or annual.

Description of Respondents: Holders of leases, permits, and rights of use and easement in the Outer Continental Shelf and in State coastal waters who will appoint designated applicants. Other respondents will be the designated applicants' insurance agents and brokers, bonding companies, and guarantors. Some respondents may also be claimants.

Estimated Reporting and Recordkeeping Hour Burden: The estimated annual hour burden for this collection is 22,132 hours. The following table details the individual components and respective hour burden estimates of this ICR.

Burden Breakdown
Citation 30 CFR 553 | Reporting requirement * | Hour burden | Average number of annual reponses | Annual burden hours
Various sections. | The burdens for all references to submitting evidence of OSFR, as well as required or supporting information, are covered with the forms below. |  |  | 0
Applicability and Amount of OSFR
11(a)(1); 40; 41 | Form BOEM-1016—Designated Applicant Information Certification | 1 | 200 | 200
11(a)(1); 40; 41 | Form BOEM-1017—Appointment of Designated Applicant | 9 | 600 | 5,400
11(a)(2) | Form BOEM-1025—Independent Designated Applicant Information Certification | 1 | 200 | 200
12 | Request for determination of OSFR applicability. Provide required and supporting information | 2 | 5 | 10
15 | Notify BOEM of change in ability to comply | 1 | 1 | 1
15(f) | Provide claimant written explanation of denial | 1 | 15 | 15
Subtotal |  |  | 1,021 | 5,826
Methods for Demonstrating OSFR
21; 22; 23; 24; 26; 27; 30; 40; 41; 43 | Form BOEM-1018—Self-Insurance Information, including renewals Form BOEM-1023—Financial Guarantee | 1 1.5 | 50 25 | 50 38
29; 40; 41; 43 | Form BOEM-1019—Insurance Certificate | 120 | 120 | 14,400
31; 40; 41; 43 | Form BOEM-1020—Surety Bond | 24 | 4 | 96
32 | Proposal and supporting information for alternative method to evidence OSFR (anticipate no proposals, but regulations provide the opportunity) | 120 | 1 | 120
Subtotal |  |  | 200 | 14,704
Requirements for Submitting OSFR Information
40; 41; 43 | Form BOEM-1021—Covered Offshore Facilities | 6 | 200 | 1,200
40; 41; 42 | Form BOEM-1022—Covered Offshore Facility Changes | 1 | 400 | 400
Subtotal |  |  | 600 | 1,600
Claims for Oil-Spill Removal Costs and Damages
Subpart F | Claims: BOEM is not involved in the claims process. Assessment of burden for claims against the Oil Spill Liability Trust Fund (30 CFR parts 135, 136, 137) falls under the responsibility of the U.S. Coast Guard. |  |  | 0
60(d) | Claimant request for BOEM assistance to determine whether a guarantor may be liable for a claim | 2 | 1 | 2
Subtotal |  |  | 1 | 2
Total Burden |  |  | 1,822 | 22,132
* In the future, BOEM may require specified electronic filing of financial/bonding submissions.

Estimated Reporting and Recordkeeping Non-Hour Cost Burden: We have identified no reporting and recordkeeping non-hour cost burdens for this collection.

Public Disclosure Statement: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BOEM plans to submit to OMB for approval. The Paperwork Reduction Act provides that an agency may not conduct or sponsor a collection of information unless it displays a currently valid OMB control number. Until OMB approves a collection of information, you are not obligated to respond.

Comments: The BOEM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Agencies must also estimate the non-hour cost burdens to respondents or recordkeepers resulting from the collection of information. Therefore, if you have costs to generate, maintain, and disclose this information, you should comment and provide your total capital and startup costs or annual cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: August 8, 2016.
Deanna Meyer-Pietruszka,
Chief, Office of Policy, Regulations, and Analysis.

[FR Doc. 2016-19310 Filed 8-12-16; 8:45 am]

BILLING CODE 4310-MR--P